DEPARTMENT OF AGRICULTURE

Natural Resources Conservation Service

[Docket No. NRCS-2022-0018]

Proposed Revisions to the National Handbook of Conservation Practices for the Natural Resources Conservation Service

AGENCY: Natural Resources Conservation Service, U.S. Department of Agriculture.

ACTION: Notice of availability; request for comments.

SUMMARY: The Natural Resources Conservation Service (NRCS) is giving notice that it intends to issue a series of revised conservation practice standards in the National Handbook of Conservation Practices (NHCP). NRCS is also giving the public an opportunity to provide comments on specified conservation practice standards in the NHCP.

DATES: We will consider comments that we receive by January 18, 2023.

ADDRESSES: We invite you to submit comments in response to this notice. You may submit your comments through one of the methods below:

• Federal eRulemaking Portal: Go to http://www.regulations.gov and search for Docket ID NRCS-2022-0018. Follow the online instructions for submitting comments; or

• Mail or Hand Delivery: Mr. Clarence Prestwich, National Agricultural Engineer, Conservation Engineering Division, NRCS, USDA, 1400 Independence Avenue, South Building, Room 4636, Washington, DC 20250. In your comment, please specify the Docket ID NRCS-2022-0018.

All comments received will be made publicly available on http://www.regulations.gov.

The copies of the proposed revised standards are available through http://www.regulations.gov by accessing Docket No. NRCS-2022-0018.

FOR FURTHER INFORMATION CONTACT: Mr. Clarence Prestwich at (202) 720-2972 or email clarence.prestwich@usda.gov. Persons with disabilities who require alternative means for communication should contact the U.S. Department of Agriculture (USDA) Target Center at (202) 720-2600 (voice).

SUPPLEMENTARY INFORMATION:

Background

NRCS plans to revise the conservation practice standards in the NHCP. This notice provides an overview of the planned changes and gives the public an opportunity to offer comments on the specific conservation practice standards and NRCS's proposed changes.

NRCS State Conservationists who choose to adopt these practices in their States will incorporate these practices into the respective electronic Field Office Technical Guide. These practices may be used in conservation systems that treat highly erodible land (HEL) or on land determined to be wetland. Section 343 of the Federal Agriculture Improvement and Reform Act of 1996 (Pub. L. 104-127) requires NRCS to make available for public review and comment all proposed revisions to conservation practice standards used to carry out HEL and wetland provisions of the law.

Revisions to the National Handbook of Conservation Practices

The amount of the proposed changes varies considerably for each of the conservation practice standards addressed in this notice. To fully understand the proposed changes, individuals are encouraged to compare these changes with each standard's current version, which can be found at: https://www.nrcs.usda.gov/resources/guides-and-instructions/conservation-practice-standards.

NRCS is requesting comments on the following conservation practice standards:

• Animal Mortality Facility (Code 316);

• Forest Trails and Landings (Code 655);

• Lined Waterway or Conveyance Channel (Code 468);

• Obstruction Removal (Code 500);

• Terrace (Code 600);

• Tree-Shrub Establishment (Code 612);

• Underground Outlet (Code 620);

• Waste Storage Facility (Code 313); and

• Water and Sediment Control Basin (Code 638).

The following are highlights of some of the proposed changes to each standard:

Animal Mortality Facility (Code 316): Criteria for preprocessing mortality for composting and additional criteria for forced air composting and treatment using alkaline hydrolysis and dehydration were added to the standard. Other minor changes were made, and document was edited to improve the clarity of the practice and align temperature and moisture criteria with references.

Forest Trails and Landings (Code 655): The “Purpose” section was revised to align with the NRCS identified resource concerns. Minor rewording throughout to improve readability.

Lined Waterway or Conveyance Channel (Code 468): Changed name from “Lined Waterway or Outlet” to “Lined Waterway or Conveyance Channel.” Clarified “Conditions Where Practice Applies” section. Updated “Criteria” and “Considerations” sections to include more material on downstream waters and aquatic organism passage. Updated references and language.

Obstruction Removal (Code 500): Improved readability and changed definition and purposes to be more concise. Reorganized “Criteria” by moving statements to “Consideration” and ensuring compliance to state and local laws. Added statement of treated wood and source water to “Considerations.” Updated references.

Terrace (Code 600): Minor rewording throughout to improve readability. Moved the statement on using the soil survey to identify problem soils from “Considerations” to “General Criteria.” In “Considerations,” removed the statement about potentially hazardous slopes as it is already addressed in the cross-section portion of “Criteria” and removed a statement regarding potential erosion at the exit of an underground outlet as it is addressed in CPS620 Underground Outlet.

Tree-Shrub Establishment (Code 612): Minor rewording throughout to improve readability. The Purpose section was revised to align with agency identified resource concerns. A new purpose and an additional criterion added for “Provide Livestock Shelter.” Removed “Develop Renewable Energy System” purpose and criterion since it does not directly address an agency identified resource concern.

Underground Outlet (Code 620): Minor rewording throughout to improve readability. Maintain water quality was added as a “Purpose” to address situations where an underground outlet is used with roof runoff structures to keep clean water from areas with livestock and animal waste. Revisions to the “Materials” and “Outlet” sections of the “Criteria” were made to better align with CPS Subsurface Drain (Code 606). A “Consideration” was added about potential effects on the hydrology of adjacent lands and especially wetlands.

Waste Storage Facility (Code 313): The “Purpose” section was updated to clarify the resource concerns that address surface and groundwater quality. A new section was added to address considerations for health and safety. Revisions were made to improve clarity of the standard, align with the Plain Writing Act of 2010 (Pub. L. 111-274), and improve the document format to meet NRCS general writing guidelines.

Water and Sediment Control Basin (Code 638): Minor rewording throughout to improve readability. Moved “using the soil survey to identify problem soils” from “Considerations” to “General Criteria.” In the “Earth Embankment” section of “Criteria,” clarified the steepest safe farmable embankment slope as 5 horizontal to 1 vertical. In the “Outlets” section of “Criteria,” a statement from “Considerations” regarding outlets with auxiliary spillways was moved to “Criteria” to clarify design requirements.

USDA Non-Discrimination Policy

In accordance with Federal civil rights law and USDA civil rights regulations and policies, USDA, its agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Persons with disabilities who require alternative means of communication for program information (e.g., braille, large print, audiotape, American Sign Language, etc.) should contact the responsible agency or USDA's TARGET Center at (202) 720-2600 (voice and TTY) or contact USDA though the Federal Relay Service at 800-877-8339 (toll-free nationwide). Additionally, program information may be made available in languages other than English.

To file a program discrimination complaint, complete the USDA Program Discrimination Complaint Form, AD-3027, found online at https://www.usda.gov/oascr/how-to-file-a-program-discrimination-complaint and at any USDA office, or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email to program.intake@usda.gov.

USDA is an equal opportunity provider, employer, and lender.

Louis Aspey,
Associate Chief, Natural Resources Conservation Service.

[FR Doc. 2022-27441 Filed 12-16-22; 8:45 am]

BILLING CODE 3410-16-P